DEPARTMENT OF ENERGY

Federal Energy Regulatory Commission

Combined Notice of Filings #2

Take notice that the Commission received the following electric corporate filings:

Docket Numbers: EC13-133-000.

Applicants: Northern States Power Company, a Minnesota corporation.

Description: Section 203 Application of Northern States Power Company, a Minnesota corporation to Acquire Jurisdictional Facilities.

Filed Date: 8/2/13.

Accession Number: 20130802-5223.

Comments Due: 5 p.m. ET 8/23/13.

Take notice that the Commission received the following electric rate filings:

Docket Numbers: ER13-1332-001.

Applicants: Canadian Hills Wind, LLC.

Description: SFA Compliance Filing—June 24, 2013 Order (8.2.13) to be effective 6/24/2013.

Filed Date: 8/2/13.

Accession Number: 20130802-5019.

Comments Due: 5 p.m. ET 8/23/13.

Docket Numbers: ER13-2093-000.

Applicants: Duke Energy Indiana, Inc.

Description: Amendment to RS No. 253 (2013) to be effective 10/1/2013.

Filed Date: 8/2/13.

Accession Number: 20130802-5081.

Comments Due: 5 p.m. ET 8/23/13.

Docket Numbers: ER13-2094-000.

Applicants: Midcontinent Independent System Operator, Inc.

Description: 08-02-2013 SA 2068 Minnkota-OTP FCA (H102-OTP) to be effective 8/3/2013.

Filed Date: 8/2/13.

Accession Number: 20130802-5086.

Comments Due: 5 p.m. ET 8/23/13.

Docket Numbers: ER13-2095-000.

Applicants: PJM Interconnection, L.L.C.

Description: Notice of Cancellation of Original Service Agreement Nos. 2769 & 2770 to be effective 9/16/2013.

Filed Date: 8/2/13.

Accession Number: 20130802-5114.

Comments Due: 5 p.m. ET 8/23/13.

Docket Numbers: ER13-2096-000.

Applicants: PJM Interconnection, L.L.C.

Description: Notice of Cancellation of Original Service Agreement No. 2693 to be effective 9/16/2013.

Filed Date: 8/2/13.

Accession Number: 20130802-5132.

Comments Due: 5 p.m. ET 8/23/13.

Docket Numbers: ER13-2097-000.

Applicants: PJM Interconnection, L.L.C.

Description: Notice of Cancellation of Original Service Agreement No. 3377 to be effective 9/22/2013.

Filed Date: 8/2/13.

Accession Number: 20130802-5143.

Comments Due: 5 p.m. ET 8/23/13.

Docket Numbers: ER13-2098-000.

Applicants: PJM Interconnection, L.L.C.

Description: Notice of Cancellation of Original Service Agreement No. 2855 to be effective 7/22/2013.

Filed Date: 8/2/13.

Accession Number: 20130802-5147.

Comments Due: 5 p.m. ET 8/23/13.

Docket Numbers: ER13-2099-000.

Applicants: ISO New England Inc., New England Power Pool Participants Committee.

Description: Info Policy Revisions Concerning Minimum Power Values to be effective 10/2/2013.

Filed Date: 8/2/13.

Accession Number: 20130802-5196.

Comments Due: 5 p.m. ET 8/23/13.

Docket Numbers: ER13-2100-000.

Applicants: Virginia Electric and Power Company.

Description: New Baseline—VEPCO Wholesale Market-Based Rate Tariff to be effective 8/2/2013.

Filed Date: 8/2/13.

Accession Number: 20130802-5203.

Comments Due: 5 p.m. ET 8/23/13.

Take notice that the Commission received the following land acquisition reports:

Docket Numbers: LA13-2-000.

Applicants: Enel Green Power North America, Inc, Canastota Windpower, LLC, Caney River Wind Project, LLC, EGP Stillwater Solar, LLC, Enel Stillwater, LLC, Smoky Hills Wind Farm, LLC, Smoky Hills Wind Project II, LLC, Rocky Ridge Wind Project, LLC, Chisholm View Wind Project, LLC, Prairie Rose Wind, LLC.

Description: Quarterly Land Acquisition Report of Enel Green Power North America, Inc.

Filed Date: 8/2/13.

Accession Number: 20130802-5228.

Comments Due: 5 p.m. ET 8/23/13.

Take notice that the Commission received the following public utility holding company filings:

Docket Numbers: PH13-22-000.

Applicants: Bloom Energy Companies.

Description: Bloom Energy Companies submits FERC-65-B Waiver Notification.

Filed Date: 8/2/13.

Accession Number: 20130802-5211.

Comments Due: 5 p.m. ET 8/23/13.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: August 2, 2013.
Nathaniel J. Davis, Sr.,
Deputy Secretary.

[FR Doc. 2013-19585 Filed 8-13-13; 8:45 am]

BILLING CODE 6717-01-P